DEPARTMENT OF ENERGY

Federal Energy Regulatory Commission

Notice of Application for Amendment of License and Soliciting Comments, Motions To Intervene, and Protests

January 8, 2002.

Take notice that the following application has been filed with the Commission and is available for public inspection:

a. Application Type: Non-Project Use of Project Lands.

b. Project No: 2210-073.

c. Date Filed: December 13, 2001.

d. Applicant: Appalachian Power Company (APC).

e. Name of Project: Smith Mountain.

f. Location: The project is located on the Roanoke River, in Bedford, Pittsylvania, Franklin, and Roanoke Counties, Virginia.

g. Filed Pursuant to: Federal Power Act, 16 U.S.C. § 791(a) 825(r) and 799 and 801.

h. Applicant Contact: Frank M. Simms, Fossil and Hydro Operations, American Electric Power, 1 Riverside Plaza, Columbus, Ohio 43215, (614) 223-2918.

i. FERC Contact: Any questions on this notice should be addressed to Mrs. Heather Campbell at (202) 219-3097, or e-mail address: heather.campbell@ferc.fed.us.

j. Deadline for filing comments and or motions: (February 16, 2002).

All documents (original and eight copies) should be filed with: Mr. Linwood A. Watson, Acting Secretary, Federal Energy Regulatory Commission, 888 First Street, NE., Washington, DC 20426. Please include the project number (P-2210-073) on any comments or motions filed.

k. Description of Request: APC is requesting Commission approval to permit to Windstar Properties, L.L.C. (permittee) to install and operate within the project boundaries: (a) One stationary dock with thirty-four covered boat slips; (b) one stationary dock with nineteen covered boat slips; (c) a 10,000 square foot sand beach; and (d) associated shoreline protection facilities. The work would also include the dredging and disposal of approximately 200 cubic yards of lakebed material. The facilities would be located at the Land's End subdivision located along the Blackwater River portion of Smith Mountain Lake.

l. Location of the Application: A copy of the application is available for inspection and reproduction at the Commission's Public Reference Room, located at 888 First Street, NE., Room 2A, Washington, DC 20426, or by calling (202) 208-1371. This filing may also be viewed on the Web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

C.B. Spencer,
Acting Secretary.

[FR Doc. 02-820 Filed 1-11-02; 8:45 am]

BILLING CODE 6717-01-P